SMALL BUSINESS ADMINISTRATION

Notice Seeking Exemption Under Section 312 of the Small Business Investment Act, Conflicts of Interest

Notice is hereby given that TD Origen Fund, L.P. (“TD Origen”), 150 Washington Avenue, Suite 201, Santa Fe, New Mexico 87501, a Federal Licensee under the Small Business Investment Act of 1958, as amended (“the Act”), TD Javelin Capital Fund, LP (“TD Javelin”), 2850 Cahaba Road, Suite 240, Birmingham, Alabama 35223, a Federal Licensee under the Act, TD Javelin Capital Fund II, LP (“TD Javelin II”), 2850 Cahaba Road, Suite 240, Birmingham, Alabama 35223, a Federal Licensee under the Act, and TD Lighthouse Capital Fund, LP (“TD Lighthouse”, and together with TD Javelin, TD Javelin II, and TD Origen, the “Funds”), 303 Detroit Street, Suite 301, Ann Arbor, Michigan 48104, an applicant for a Federal license under the Act, in connection with the financing of a small concern, are seeking an exemption under section 312 of the Act and section 107.730, Financings which Constitute Conflicts of Interest of the Small Business Administration (“SBA”) rules and regulations (13 CFR 107.730 (2000)). The Funds propose to provide equity financing to TransMolecular, Inc. (“TMI”), 2850 Cahaba Road, Suite 240, Birmingham, Alabama 35223. The financing is contemplated for product development and working capital.

The financing is brought within the purview of Sec. 107.730(a)(1) of the Regulations because TD Javelin, an Associate of the Funds, currently owns greater than 10 percent of TMI and therefore TMI is considered an Associate of each of the Funds as defined in Sec. 107.50 of the regulations.

Notice is hereby given that any interested person may submit written comments on the transaction to the Associate Administrator for Investment, U.S. Small Business Administration, 409 Third Street, SW; Washington, DC 20416.

Dated: April 26, 2000.
Don A. Christensen,
Associate Administrator for Investment.

[FR Doc. 00-12185 Filed 5-15-00; 8:45 am]

BILLING CODE 8025-01-U